DEPARTMENT OF AGRICULTURE

Animal and Plant Health Inspection Service

[Docket No. 01-103-1]

Veterinary Services; Availability of an Environmental Assessment

AGENCY: Animal and Plant Health Inspection Service, USDA.

ACTION: Notice of availability and request for comments.

SUMMARY: We are informing the public that the Animal and Plant Health Inspection Service has prepared an environmental assessment for a proposed study to determine the disappearance rate of bison fetuses in the environment. The environmental assessment documents our review and analysis of environmental impacts associated with the proposed study. We are making this environmental assessment available to the public for review and comment.

DATES: We invite you to comment on the environmental assessment. We will consider all comments we receive that are postmarked, delivered, or e-mailed by December 31, 2001.

ADDRESSES: You may submit comments by postal mail/commercial delivery or by e-mail. If you use postal mail/commercial delivery, please send four copies of your comment (an original and three copies) to: Docket No. 01-103-1, Regulatory Analysis and Development, PPD, APHIS, Station 3C71, 4700 River Road Unit 118, Riverdale, MD 20737-1238. Please state that your comment refers to Docket No. 01-103-1. If you use e-mail, address your comment to regulations@aphis.usda.gov. Your comment must be contained in the body of your message; do not send attached files. Please include your name and address in your message and “Docket No. 01-103-1” on the subject line.

You may read the environmental assessment and any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis,usda.gov/ppd/rad/webrepor.html.

FOR FURTHER INFORMATION CONTACT: Dr. Valerie Ragan, Senior Staff Veterinarian, National Animal Health Programs Staff, VS, APHIS, 4700 River Road Unit 36, Riverdale, MD 20737-1231; (301) 734-6954.

SUPPLEMENTARY INFORMATION:

Background

The mission of Veterinary Services (VS) of the Animal and Plant Health Inspection Service (APHIS) is to protect and improve the health, quality, and marketability of domestic animals by preventing, controlling, and/or eliminating animal diseases and monitoring and promoting animal health and productivity.

Brucellosis is a contagious disease that affects animals and humans, caused by bacteria of the genus Brucella. Brucella abortus principally affects bison and cattle. In bison and cattle, brucellosis localizes in the reproductive organs and/or the udder, causing abortion in dams as well as systemic effects in males and females. Female cattle infected with brucellosis also suffer infertility and lowered milk production.

Brucellosis is spread when bacteria are shed in milk, aborted fetuses, afterbirth, or other reproductive tract discharges and are ingested by a susceptible animal. Cattle and bison have a tendency to sniff and lick an aborted fetus, which provides an avenue for the disease to spread if Brucella is present.

Brucellosis has caused devastating losses to farmers in the United States over the last century. It is estimated that the disease has cost the Federal Government, the States, and the livestock industry billions of dollars in direct losses and efforts to eliminate the disease. APHIS has estimated that if efforts to eradicate the disease were stopped, the costs of producing beef and milk would increase by an estimated $80 million annually in less than 10 years.

Brucellosis infection occurs in bison in Yellowstone National Park. Bison roam wild in Yellowstone National Park, and during winter and spring, some migrate outside of the park onto State and private lands. The prevention of the spread of brucellosis from bison to cattle in and around the park is an issue of concern.

VS, in cooperation with other Federal and State agencies, proposes to conduct an 11-week study in the West Yellowstone and Gardiner areas in Montana starting in March 2002 to determine how long a bison fetus remains in the environment as a potential source of Brucella organisms before it deteriorates or is consumed by scavengers. The research on the rate of fetal disappearance is supported in the Record of Decision for the Final Environmental Impact Statement and Bison Management Plan for the State of Montana and Yellowstone National Park, dated December 20, 2000. Also, the study will comply with step 1 of the Joint Bison Management Plan within the Record of Decision.

To provide the public with documentation of APHIS' review and analysis of the environmental impacts associated with this study, we have prepared an environmental assessment titled, “Proposed Study for Bison Fetal Disappearance Rate,” dated November 2001. The environmental assessment provides a basis for our conclusion that the potential impacts to the environment of the proposed study are expected to be insignificant.

The environmental assessment may be viewed on the Internet at http://www.aphis.usda.gov/ppd/es/vsdocs.html. You may request paper copies of the environmental assessment from the person listed under FOR FURTHER INFORMATION CONTACT. Please refer to the title of the environmental assessment when requesting copies. The environmental assessment is also available for review in our reading room (the location and hours of the reading room are listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 27th day of November 2001.
W. Ron DeHaven,
Acting Administrator, Animal and Plant Health Inspection Service.

[FR Doc. 01-29724 Filed 11-28-01; 8:45 am]

BILLING CODE 3410-34-P